DEPARTMENT OF TRANSPORTATION

Surface Transportation Board

[STB Finance Docket No. 34031]

Florida Midland Railroad Company—Acquisition and Operation Exemption—CSX Transportation, Inc.

Florida Midland Railroad Company (FMID), a Class III rail carrier, has filed a verified notice of exemption under 49 CFR 1150.41 to acquire from CSX Transportation, Inc. (CSXT) two rail lines described as follows: (1) The Lake Wales Line, extending (a) from milepost SV-863.28, in West Lake Wales, FL, to milepost SV-867.47, in Lake Wales, FL, and (b) from milepost AVC-843.30, in Lake Wales, to milepost AVC-857.50, in Frostproof, FL, a distance of approximately 18.39 miles; and (2) the Winter Haven Line, extending from milepost AW-842.0, in Winter Haven, FL, to milepost AW-848.0, in Gordonville, FL, a distance of approximately 6 miles. The total distance of the Lake Wales and Winter Haven Lines is approximately 24.39 miles. FMID will acquire only the track and track materials. CSXT will retain ownership of the real property underlying the right-of-way of the Lake Wales and Winter Haven Lines, and FMID will lease that underlying property from CSXT.¹

¹ FMID's operation of the Lake Wales and Winter Haven Lines was exempted in Florida Midland Railroad Company-Acquisition and Operation Exemption-Rail Lines of CSX Transportation, Inc., Finance Docket No. 31151 (ICC served Nov. 27, 1987).

The transaction is scheduled to be consummated shortly after May 7, 2001.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34031, must be filed with the Surface Transportation Board, Office of the Secretary, Case Control Unit, 1925 K Street, NW., Washington, DC 20423-0001. In addition, a copy of each pleading must be served on Thomas J. Litwiler, Esq., Fletcher & Sippel LLC, Two Prudential Plaza, Suite 3125, 180 North Stetson Avenue, Chicago, IL 60601-6721.

Board decisions and notices are available on our website at www.stb.dot.gov.

Decided: May 7, 2001.
By the Board, David M. Konschnik, Director, Office of Proceedings.
Vernon A. Williams,
Secretary.

[FR Doc. 01-12050 Filed 5-11-01; 8:45 am]

BILLING CODE 4915-00-P